DEPARTMENT OF AGRICULTURE

Submission for OMB Review; Comment Request

November 14, 2001.

The Department of Agriculture has submitted the following information collection requirement(s) to OMB for review and clearance under the Paperwork Reduction Act of 1995, Public Law 10413. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Research Service

Title: Patent License Applications.

OMB Control Number: 0518-0003.

Summary of Collection: The U.S. Department of Agricultural patent licensing program grants patent licenses to qualified businesses and individuals who wish to commercialize inventions arising from federally supported research. The Agricultural Research Service (ARS) overseas licensing of federally owned inventions which must be done in accordance with terms, conditions, and procedures prescribed under 37 CFR part 404. Application information must be collected to identify the business or individual desiring the patent license along with a plan for the development and marketing of the invention and a description of the applicant's ability to fulfill the plan.

Need and use of the Information: Using form AD-761, ARS will collect a detailed description for development and/or marketing of the invention and identifying information on the applicant and the business. The information collected is used to determine whether the applicant has both a complete and sufficient plan for developing and marketing the invention and the necessary manufacturing, marketing, technical, and financial resources to carry out the submitted plan.

Description of Respondents: Business or other for profit; Not-for-profit institutions; Individuals or households; Farms; Federal Government; State, Local or Tribal Government.

Number of Respondents: 75.

Frequency of Responses: Reporting: On occasion.

Total Burden Hours: 225.

Agricultural Research Service

Title: Use of Facilities or the Performance of Photography/Cinematography at the U.S. National Arboretum.

OMB Control Number: 0518-0024.

Summary of Collection: The mission of the U.S. National Arboretum (USNA) is to conduct research, provide education, and conserve and display trees, shrubs, flowers, and other plans to enhance the environment. The USNA is a 446-acres public facility and the grounds are available to the general public for purposes of education and passive recreation. The USNA has many spectacular feature and garden displays which are very popular to visitors and photographers. Section 890(b) of the Federal Agriculture Improvement and Reform Act of 1996, Pub. L. 104-107 (“FAIR ACT”) provided statutory authorities regarding the USNA> These authorities include the ability to charge fees for temporary use by individuals or groups of USNA facilities and grounds for any purpose consistent with the mission of USNA. Also, the authority was provided to charge fees for the use of the USNA for commercial photography and cinematography.

Need and Use of the Information: USNA use the information to determine if the requestor's needs can be met and that the request is consistent with the mission and goals of the USNA. If the basic information is not collected USNA officials will not be able to determine if the requestor's needs can be met.

Description of Respondents: Not-for-profit institutions; Business or other for profit; Federal Government; State, Local or Tribal Government.

Number of Respondents: 220.

Frequency of Responses: Reporting: On occasion.

Total Burden Hours: 53.

National Agricultural Statistics Service

Title: Cold Storage.

OMB Control Number: 0535-0001.

Summary of Collection: The primary objective of the National Agricultural Statistics Service (NASS) is to prepare and issue state and national estimates of crop and livestock production. The monthly Cold Storage Survey provides information on national supplies of food commodities in refrigerated storage facilities and is used as part of the country's preparedness in case of a national emergency. The data will be collected under the authority of 7 U.S.C. 2204(a). This statute specifies “The Secretary of Agriculture shall procure and preserve all information concerning agriculture which he can obtain * * *. by the collection of statics * * * and shall distribute them among agriculturists.”

Need and use of the Information: USDA agencies such as the World Agricultural Outlook Board, Economic Research Service, and Agricultural Marketing Service use the information from the Cold Storage report in setting and administering government commodity programs and in supply and demand analysis. Included in the report are 100 food items and stocks figures that are used by food processors, food brokers, and farmers in making production, marketing and pricing decisions. The timing and frequency of the survey have evolved to meet the needs of producers, facilities, agribusinesses, and government agencies.

Description of Respondents: Business or other for-profit.

Number of Respondents: 4,367.

Frequency of Responses: Reporting: Monthy; Annually; Biennially.

Total Burden Hours: 4,362.

National Agricultural Statistics Service

Title: Field Crops Production.

OMB Control Number: 0535-0002.

Summary of Collection: One of the National Agricultural Statistics Services' (NASS) primary functions is to prepare and issue current State and national estimates of crop and livestock production. To help set these estimates, field crops production data is collected. NASS will collect information through the use of mail, telephone, and personnel interview surveys.

Need and use of the Information: NASS collects information on field crops to monitor agricultural developments across the country that may impact on the nation's food supply. The Secretary of Agriculture uses estimates of crop production to administer farm program legislation and to make decisions relative to the export-import programs. Collecting this information less frequently would eliminate the data needed to keep the Department abreast of changes at the State and national level.

Description of Respondents: Farms; Business or other for-profits.

Number of Respondents: 600,951.

Frequency of Responses: Reporting: Weekly, Monthly, Quarterly, Annually.

Total Burden Hours: 122,344.

National Agricultural Statistics Service

Title: Agricultural Prices.

OMB Control Number: 0535-0003.

Summary of Collection: Estimates of prices received by farmers and prices paid for production goods and services are needed by the U.S. Department of Agriculture, National Agriculture Statistics Service (NASS), to compute parity prices in accordance with requirements of the Agricutural Adjustment act of 1938 as amended (Title III, subtitle A, section 301a) and estimate value of production, inventory values, and cash receipts from farming. Determine the level for farmer owned reserves and provide guidelines for Risk Management Agency price selection options and determine Federal disaster prices to be paid and the grazing fee on Federal lands. General authority for these data collection activities is granted under U.S.C. Title 7, section 2204. This statute specifies “The Secretary of Agriculture shall procure and preserve all information concerning agriculture which he can obtain * * * by the collection of statistics and shall distribute them among agriculturalists.”

Need and use of the Information: The NASS price program computes annual U.S. weighted average prices received by farmers for wheat, barley, corn, oats, grain sorghum, rice, and cotton based on monthly marketing. The indexes are used in computing the parity prices that NASS is required by statute to publish monthly. Parity prices are used to establish and maintain Federal Market Orders. The Agricultural Marketing Service uses various State milk-marketing orders, prices paid indexes, and import prices for determining State or local support milk prices.

Description of Respondents: Farms; Business or other for-profit.

Number of Respondents: 26,748.

Frequency of Responses: Reporting: On occasion; Monthly; Annually; Biennially.

Total Burden Hours: 9,564.

National Agricultural Statistics Service

Title: Fruits, Nut, and Specialty Crops.

OMB Control Number: 0535-0039.

Summary of Collection: U.S.C. Title 7, section 2204, specifies that “The Secretary of Agriculture shall procure and preserve all information concerning agriculture which he can obtain by the collection of statistics * * * and shall distribute them among agriculturists.” The primary function of the National Agricultural Statistics Service (NASS) is to prepare and issue current official State and national estimates of crop and livestock production. Estimates of fruit, tree nuts, and specialty crops are an integral part of this program. These estimates support the NASS strategic plan to annually cover 99% of all agricultural receipts. Information is collected on a voluntary basis from growers, processors, and handlers through surveys.

Need and use of the Information: Data reported on fruit, nut, and Hawaii tropical crops are used by NASS to estimate acreage, yield, production, utilization, and crop value in States with significant commercial production. These estimate are essential to farmers, processors, and handlers in making production and marketing decisions. Estimates from these inquiries are used by market order administrators in their determination of expected supplies of crop under federal and State market orders as well as competitive fruits and nuts.

Description of Respondents: Farms; Business or other for-profit.

Number of Respondents: 59,797.

Frequency of Responses: Reporting: On occasion; Annually; Quarterly; Semi-annually; Monthly.

Total Burden Hours: 8,794.

Rural Utilities Service

Title: 7 CFR part 1721, Extensions of Payments of Principal and Interest.

OMB Control Number: 0572-0123.

Summary of Collection: Rural Utilities Service (RUS) to adding procedures and conditions under which borrowers may request extensions of the payment of principal and interest. RUS electric program provides loans and loan guarantees to borrowers at interest rates and terms that are more favorable than those generally available for the private sector. As a result of obtaining federal financing, RUS borrowers receive economic benefits that exceed any direct economic costs associated with complying with (RUS) regulations and requirements. The authority for these extensions is contained in Section 12 of the Rural Electrification Act of 1936, as amended and Section 236 of the “Disaster Relief Act of 1970, as amended by the Department of Agriculture Reorganization Act of 1994.”

Need and Use of the Information: The collection of information occurs only when the borrower requests an extension of principal and interest. Eligible purposes include financial hardship energy resource conservation loans, renewable energy project,, and contributions-in-aid of construction. The collections are made to provide needed benefits to borrowers while also maintaining the integrity of RUS loans and their repayment of taxpayer's monies.

Description of Respondents: Not for-profit institutions.

Number of Respondents: 90.

Frequency of Responses: Reporting: On occasion.

Total Burden Hours: 784.

Rural Housing Service

Title: 7 CFR, Part 1955-B Management of Property.

OMB Control Number: 0575-0110.

Summary of Collection: The Farm Service Agency (FSA) and the Rural Business Cooperative Service (RBS) programs are administered under the provisions of the Consolidated Farm and Rural Development Act (CONTACT), as amended. FSA Farm Loan Program (FLP) provides supervised credit in the form of loans to family farmers and ranchers to purchase land and finance agricultural production. The Rural Housing Service (RHS) provides credit in the form of Multi-Family Housing loans and Community Facility loans. The RBS program is designed to improve, develop or finance business industry and employment and improve the economic and environmental climate in rural communities. These agencies must collect information on real property taken into custody and chattel property in the agency's inventory.

Need and Use of the Information: Information is obtained from farmers, ranchers and rural residents and submitted to the local FSA or Rural Development Office where it is used to track and monitor real and chattel property. This information is required to prevent losses to the Government when security property is abandoned or to comply with the provisions of the CONTACT and congressional intent of assuring that acquired properties are sold to beginning farmers.

Description of Respondents: Farms; Business or other for-profits; Individuals or households.

Number of Respondents: 292.

Frequency of Responses: Reporting: On occasion.

Total Burden Hours: 136.

Animal Plant and Health Inspection Service

Title: Exotic Newcastle Disease in Birds and Poultry; Chlamydiosis in Poultry.

OMB Control Number: 0579-0116.

Summary of Collection: Title 21, U.S.C. authorizes the Department of Agriculture and the Animal Plant and Health Inspection Service (APHIS) to take necessary actions to prevent, control and eliminate domestic diseases, and to manage non-domestic diseases such as Exotic Newcastle Disease (END) and Chlamydiosis. Disease prevention is the most effective method for maintaining a healthy animal population and for enhancing APHIS ability to compete in the world market of animals and animal product trade.

Need and Use of the Information: APHIS will collect information through the use of documents attesting to the health status of the birds or poultry being moved, the number and types of birds or poultry being moved in a particular shipment, the shipment's point of origin, the shipment's designation, and the reason for the interest movement. These documents also provide useful “trackback” information in the event an infected bird or chicken is discovered and an investigation must be launched to determine where the bird or chicken originated. The information provided by these documents is critical to APHIS ability to prevent the interstate spread of END, which is highly contagious and capable of causing significant economic harm to the U.S. poultry industry.

Description of Respondents: Business or other for profit; Individuals or households; Farms; State, Local or Tribal Government.

Number of Respondents: 57.

Frequency of Responses: Reporting: On occasion.

Total Burden Hours: 34.

Animal Plant and Health Inspection Service

Title: Asian Long Horned Beetle Regulations.

OMB Control Number: 0579-0122.

Summary of Collection: The Animal and Plant Health Inspection Service (APHIS) of the Department of Agriculture is responsible for preventing plant pest and noxious weeds from entering the United States, preventing the spread of pests and weeds not widely distributed in the United States, and eradicating those imported pests and weeds when eradication is feasible. Section 415 of the Plant Protection Act (7 U.S.C. 7715) provides authority for the Secretary of Agriculture to quarantine any State, Territory, or District of the United States to prevent the spread of insect pests and plant diseases (such as Asian Long Horned Beetle) that are new to the United States, or not widely distributed throughout the United States. The Asian Long horned beetle is a destructive pest of hardwood trees including apple, cherry, pear, and citrus, and of forest trees. The beetle bore into the heartwood of host trees; eventually killing them.

Need and Use of the Information: APHIS will collect information to control and monitor the movement of the Asian long horned beetle. If the information were not collected the effectiveness of the Asian Long Horned Beetle Quarantine would be severely compromised.

Description of Respondents: Farms; Business or other for profit; State, Local, or Tribal Government; Individuals or households.

Number of Respondents: 225.

Frequency of Responses: Reporting: On occasion.

Total Burden Hours: 132.

Animal Plant and Health Inspection Service

Title: Importation of Fruits and Vegetables.

OMB Control Number: 0579-0128.

Summary of Collection: The Animal and Plant Health Inspection Service (APHIS) of the Department of Agriculture is responsible for preventing plant diseases or insect pests from entering the United States. Section 5 of the Plant Quarantine Act (7 U.S.C. 159) authorizes the Secretary of Agriculture to determine whether the unrestricted importation of any plants, fruits, vegetables, roots, bulbs, seeds, or other plant products not included by the term “nursery stock” will result in the introduction of plant diseases or insect pests into the United States, and to then specify which of these products will be subject to the provisions of section 1 of the Plant Quarantine Act. Before entering the United States all fruits and vegetables are subject to inspection and disinfections at their port of first arrival to ensure that no plant pests are inadvertently brought into the United States.

Need and Use of the Information: APHIS will collect information using the Phytosanitary Certificate to ensure that fruits and vegetables can be imported into the United States with minimal risk of introducing exotic plants pests such as fruit flies and leek moths. Without this information APHIS would need to inspect each and every shipment very thoroughly to ensure that no pests were accompanying the shipment.

Description of Respondents: Business or other for profit; State, Local, or Tribal Government; Individuals or households; Farms.

Number of Respondents: 50.

Frequency of Responses: Recordkeeping; Reporting: On occasion.

Total Burden Hours: 501.

Animal Plant and Health Inspection Service

Title: Hass Avocado.

OMB Control Number: 0579-0129.

Summary of Collection: The Animal and Plant Health Inspection Service (APHIS) of the Department of Agriculture is responsible for preventing plant diseases or insect pests from entering the United States, preventing the spread of pests not widely distributed in the United States, and eradicating those imported when eradication is feasible. The Plant Protection Act (7 U.S.C. 7707) and the Organic Act (7 U.S.C. 147a) authorizes APHIS to carry out this mission. APHIS will collect information from a variety of individuals, both within and outside of the United States, who are involved in growing, packing, handling, transporting, and importing foreign logs, trees, shrubs, and other articles. Currently there are regulations that allow fresh Hass Avocado fruit grown in approved orchards in Michoacan, Mexico to be imported into the United states under certain conditions.

Need and Use of the Information: APHIS will collect information using forms PPQ 519, Compliance Agreement, and PPQ 587, Permits. The information collected will ensure that fresh Hass Avocados from Mexico do not harbor exotic insect pests.

Description of Respondents: Business or other for profit; State, Local, or Tribal Government.

Number of Respondents: 380.

Frequency of Responses: Reporting: On occasion.

Total Burden Hours: 443.

Animal Plant and Health Inspection Service

Title: Importation of Tomatoes from France, Morocco, and Western Sahara, Chile, and Spain.

OMB Control Number: 0579-0131.

Summary of Collection: The Department of Agriculture is responsible for preventing plant diseases or insect pests from entering the United States, as well as the spread of pests not widely distributed in the United States, and eradicating those imported when eradication is feasible. The Plant Quarantine Act and the Organic Act authorizes the Department to carry out this mission. 7 CFR 319.56 thru 319.56-8 prohibit or restrict the importation of fruits and vegetables into the United States from certain parts of the world to prevent the introduction and dissemination of plant pests, including fruit flies. These regulations allow tomatoes from Spain, Chile, France, Morocco, and Western Sahara to be imported into the United States (subject to certain conditions).

Need and Use of the Information: The Animal and Plant Health Inspection Service (APHIS) will collect information using the phytosanitary certificate certifying that the tomatoes were grown in registered greenhouses in a specified area of the exporting country. If the information were not collected, APHIS' ability to protect the United States from exotic insect pests would be severely compromised.

Description of Respondents: Business or other for profit; Individuals or households; Farms.

Number of Respondents: 34.

Frequency of Responses: Recordkeeping; Reporting: On occasion.

Total Burden Hours: 1704.

Animal Plant and Health Inspection Service

Title: Mexicali Valley-Karnal Bunt.

OMB Control Number: 0579-0132.

Summary of Collection: The Department of Agriculture is responsible for preventing plant diseases or insect pests from entering the United States, preventing the spread of pests not widely distributed in the United States, and eradicating those imported when eradication is feasible. The Plant Quarantine Act and the Federal Plant Pest Act authorizes the Department to carry out this mission. The Plant Protection and Quarantine Program of the Animal and Plant Health Inspection Service (APHIS) are responsible for implementing the regulations that carry out the intent of the Act. Wheat and other wheat-related articles offered for entry from the Karnal Bunt free zone of the Mexicali Valley would need to be accompanied by a phytosanitary certificate issued by the Mexican plant protection authorities. This certificate would state that the wheat or other articles were grown in the designated Karnal Bunt free area of the Mexicali Valley.

Need and use of the information: The collected information contained on the signed phytosanitary certificate by Mexico's national plant protection official is used to ensure that wheat imported into the U.S. is free of Karnal Bunt. If the information is not collected introduction of Karnal Bunt into the United States could cause millions of dollars in damage to U.S. wheat crops, as well as additional millions of dollars to eradicate.

Description of Respondents: Business or other for profit; Individuals or households; Farms.

Number of Respondents: 20.

Frequency of Responses: Reporting: On occasion.

Total Burden Hours: 120.

Animal Plant and Health Inspection Service

Title: BSE—Certificate of Origin.

OMB Control Number: 0579-0183.

Summary of Collection: These authorities: sections 111, 114, 114a, 115, 120, 121, 125, 126, 134a, 134c, 134f, and 134g of Title 21, U.S.C., permit the Secretary of Agriculture to prevent, control and eliminate domestic diseases such as brucellosis as well as manage exotic diseases such as Bovine Spongiform Encephalopathy (BSE) and other foreign animal diseases. BSE is a neurological disease of bovine animals and other ruminants and is not known to exist in the United States. Disease prevention is the most effective method for maintaining a healthy animal population and enhancing the Animal and Plant Health Inspection Service (APHIS) ability to compete in exporting animals and animal products.

Need and use of the Information: APHIS will collect the applicant's name, address, the name and address of the individual who is exporting the material or product, the type and amount of material or product being shipped, the intended use of the material or product, and the origin and destination points of the material or product being shipped using form VS-16-3, Import Permit Application. The information contained in the VS form 16-3 enables APHIS to determine whether the shipment qualifies for import into the United States. Without the information it would be impossible for APHIS to effectively prevent BSE-contaminated animal products from entering the United States.

Description of Respondents: Business or other for profit.

Number of Respondents: 1,000.

Frequency of Responses: Reporting: On occasion.

Total Burden Hours: 1,494.

Animal Plant and Health Inspection Service

Title: Black Stem Rust; Identification Requirements and Addition of Rust-Resistant Varieties.

OMB Control Number: 0579-0186.

Summary of Collection: The Plant Protection Act gives the Secretary of Agriculture the responsibility for preventing plant diseases or insect pests from entering the United States, preventing the spread of pests not widely distributed in the United States, and eradicating those imported pests when eradication is feasible. Black Stem Rust is one of the most destructive plant diseases of small grains that are known to exist in the United States. A fungus that reduces the quality and yield of infected wheat, oat, barley, and rye crops by robbing host plants of food and water.

Need and Use of the Information: APHIS will collect information to prevent the spread of black stem rust by providing for and requiring the accurate identification of rust-resistant varieties by inspectors.

Description of Respondents: Business or other for profit.

Number of Respondents: 4.

Frequency of Responses: Reporting: On occasion.

Total Burden Hours: 32.

Grain Inspection, Packers & Stockyards Administration

Title: Report and Recordkeeping Requirements.

OMB Control Number: 0580-0013.

Summary of Collection: The Grain Inspection, Packers and Stockyards Administration (GIPSA) is mandated to provide, upon request, inspection, certification, and identification services related to assessing the class, quality, quantity, and condition of agricultural products shipped or received in interstate and foreign commerce. Applicants requesting GIPSA services must specify the kind and level of service desired, the identification of the product, the location, the amount, and other pertinent information in order that official personnel can efficiently respond to their needs.

Need and Use of the Information: GIPSA employees use the information to guide them in the performance of their duties. Additionally, producers, elevator operators, and/or merchandisers who obtain official inspection, testing, and weighing services are required to keep records related to the grain or commodity for three years. Personnel who provide official inspection, testing, and weighing services are required to maintain records related to the lot of grain or related commodity for a period of five years. The information is used for the purpose of investigating suspected violations.

Descriptions of Respondents: Business or other for-profit.

Number of Respondents: 2,372.

Frequency of Responses: Recordkeeping; Reporting: On occasion, Weekly, Monthly, Semi-annually, Annually.

Total Burden Hours: 396,937.

Agricultural Marketing Service—Farm Service Agency

Title: Pricing Pilot Program.

OMB Control Number: 0581-0190.

Summary of Collection: The Consolidated Appropriations Act 1999 on November 29, 1999 (Public Law 106-113 (113 Stat. 1536, Section 1001(a)(8))) mandated the implementation of a Dairy Forward Pricing Pilot Program. The Dairy Forward Pricing Pilot Program became effective on July 19, 2000. The program permits a handler to pay producers or cooperative associations a negotiated price, rather than the minimum Federal order price, for milk that is under forward contract, provided that such milk does not exceed the handler's non-fluid use of milk for the month. This is voluntary program and only applies to federally regulated milk that is not packaged for fluid use.

Need and Use of the Information: AMS will use questionnaires to conduct a study of forward contracting under the pilot program to determine the impact on milk prices paid to producers in the United States. The study is due to Congress no later than April 30, 2002. The information collected from the questionnaires will identify participants' size, availability of contracts, sources of information utilized to make decisions, and impacts on business operations; and AMS will review summarize, and evaluate the different types of contracts that have been written under the pilot program. If the information is not collected, the Department will not be able to determine the extent of the impact of the forward contract has had on milk prices paid to producers.

Description of Respondents: Business or other for profit; Farms.

Number of Respondents: 8000.

Frequency of Responses: Reporting: On occasion; Other (one time).

Total Burden Hours: 3,275.

Food and Nutrition Service

Title: Employment and Training (E&T) Program Report.

OMB Control Number: 0584-0339.

Summary of Collection: The Balanced Budget Act of 1997 (Public Law 105-33), enacted on August 5, 1997, modified the Employment and Training (E&T) Program so that States' efforts are now focused on a particular segment of the food stamp population-abled-bodied adults without dependents (ABAWDs). Section 6(d) of the Food Stamp Act of 1977 and 7 CFR 273.7 require each food stamp household member who is not exempt shall be registered for employment by the State agency at the time of application and once every twelve months thereafter, as a condition of eligibility. This requirement pertains to all household members over the age of 15 and under the age of 60. Each State agency must screen each work registrant to determine whether to refer the individual to its E&T Program. States' E&T Programs are federally funded through an annual E&T grant that is funded based on the number of food stamp recipients registered for work in that state. Both the Food Stamp Act and regulations require States to file quarterly reports about their E&T Programs so that the Food and Nutrition Service (FNS) can monitor their performance.

Need and use of the Information: FNS will collect information from the States on E&T program statistics and waiver exemptions for ABAWDs on a quarterly basis using form FNS-583, E&T Program Report. FNS needs this information to work with the States throughout the year to ensure they do not exceed their ABAWDs exemption allocation and to make preliminary adjustments prior to the end of the year so States can plan accordingly. The information will help FNS monitor program performance and evaluate whether the component costs need adjustments in future years.

Description of Respondents: State, Local, or Tribal Government; Individuals or households.

Number of Respondents: 3,386,325.

Frequency of Responses: Reporting: Quarterly; Annually.

Total Burden Hours: 190,541.

Food and Nutrition Service

Title: The Prime Vendor Pilot Project Evaluation.

OMB Control Number: 0584-NEW.

Summary of Collection: The food and Nutrition Service (FNS) will implement a data collection phase for the evaluation of the Prime Vendor Pilot Project. The Prime Vendor Pilot Project is a pilot of the Food Distribution Program on Indian Reservations (FDPIR). The food Stamp Act of 1977 requires that a food distribution program be established on an Indian reservation, if an Indian Tribal Organization (ITO) requests it. If an ITO is capable, it may administer the program instead of a state agency. Currently, FDPIR is operated through a partnership between FNS and 94 ITO's and 6 states' distributing agencies. Eligibility criteria for receiving benefits include residence in a participating reservation and meeting income and resource eligibility criteria.

Need and use of the Information: FNS will collect information using a questionnaire. The information collected will determine whether the Prime Vendor System will improve food delivery service and reduce cost to both USDA and the ITO's that are receiving multi-food shipments in the FNS Midwest Region. If this information is not collected, USDA agencies will have no information to determine if the pilot is feasible, whether it results effective food delivery to ITO's.

Description of Respondents: State, Local, or Tribal Government.

Number of Respondents: 23.

Frequency of Responses: Reporting: Annually.

Total Burden Hours: 23.

Rural Housing Service

Title: 7 CFR 1902-A, Supervised Bank Accounts.

OMB Control Number: 0575-0158.

Summary of Collection: 7 CFR 1902-A, Supervised Bank Accounts, prescribes the policies and procedures for disbursing loan and grant funds, establishing and closing supervised accounts, and placing Multi-Family housing reserve accounts in supervised accounts. Supervised accounts are accounts with a financial institution in the names of a borrower and the United States Government, represented by Rural Housing Service, Rural Business-Cooperative Service, Rural Utilities Service, or Farm Service Agency (Agency). Also, the regulation outlines who uses supervised accounts; when they are used; and how they are established, monitored, and closed.

Need and Use of the Information: The agency's state and field offices will collect information from borrowers and financial institutions and use the information to monitor compliance with agency regulations governing supervised accounts, such as establishing, maintaining, and withdrawing funds. In addition, the information will be used to ensure that the borrowers operate on a sound basis and use the loan and grant funds for authorized purposes.

Description of Respondents: Business or other for-profit.

Number of Respondents: 20,000.

Frequency of Responses: Reporting: On occasion.

Total Burden Hours: 26,260.

Agricultural Marketing Service

Title: Reporting Requirements Under the Regulations Governing Inspection and Certification of Processed Fruits and Vegetable and Related Products.

OMB Control Number: 0581-0123.

Summary of Collection: The Agricultural Marketing Act of 1946 (7 U.S.C. 1622(h)) requires and directs the Department of Agriculture to promulgate rules and regulations to carry out voluntary inspection and grading services of processed fruits and vegetables on a fee for service basis. The regulations governing Inspection and Certification of processed Fruit and Vegetables and Related Products (7 CFR 52) authorizes the collection of information to assure that the products sampled, inspected, graded and certified are actually the products requested to be sampled and inspected.

Need and use of the Information: The Agricultural Marketing Service (AMS) uses the data collected for grading and certification purposes and for hiring licensed samplers. The following forms are used by AMS for information collection: FV-159, Application for Inspection of Unofficially Submitted Samples of Food Products, the information collected is used to determine the purpose for which the inspection is desired for unofficially submitted samples. FV-356, Application for Inspection and Certificate of Sampling, the information is used to fill in the respondent's name and address, and to describe the containers, the location code marks and the number of containers in the lot. FV-468, Application for License to Sample Processed Foods, the information collected is used to hire prospective employees desiring to become licensed to sample processed foods and to certify as to the identification, location, kinds and condition of containers of processed products that are sampled.

Description of Respondents: Business or other for-profit; Federal Government; State, Local or Tribal Government.

Number of Respondents: 1,672.

Frequency of Responses: Reporting: On occasion.

Total Burden Hours: 32,366.

Agricultural Marketing Service

Title: Lamb Promotion, Research and Information Program.

OMB Control Number: 0581-NEW.

Summary of Collection: The authority for Lamb Promotion, Research, and Information Order is established under the Commodity Promotion, Research, and Information Act of 1996. These programs carry out projects relating to research, consumer information, advertising, producer information, market development, and product research with the goal of maintaining and expanding their existing markets and uses and strengthening their position in the marketplace.

Need and Use of the Information: Various forms were designed to collect and remit assessments to the Board, to certify organizations, to select nominees and certify nominating organizations, and use for reporting. The information requested on the forms is the minimum information necessary to effectively carry out the requirements of the program, is necessary to fulfill the intent of the ACT. Also, the information is not available from other sources because it relates specifically to individual lamb producers, feeders, seedstock producers, exporters and first handlers.

Description of Respondents: Farms; Individuals or households; Business or other for-profit.

Number of Respondents: 68,112.

Frequency of Responses: Recordkeeping; Reporting: Monthly.

Total Burden Hours: 66,547.

Foreign Agricultural Service

Title: Sugar Imported to be Re-exported in Refined Form, in Sugar-containing Products, or used in Production of Certain Polyhydric Alcohols.

OMB Control Number: 0551-0015.

Summary of Collection: Regulation 7 CFR part 1530 authorizes the Foreign Agricultural Service (FAS) to issue import licenses to enter raw cane sugar (exempt from the tariff-rate quota for the raw cane sugar imports and the related requirements) on the condition that an equivalent quantity of refined sugar be: (1) Exported as refined sugar; (2) exported as an ingredient in sugar containing products; or (3) used in production of certain polyhydric alcohols. The purpose of the sugar import licensing program is to assist U.S. sugar manufacturers, refiners, and processors in making U.S. products price competitive on the world market; and facilitate the use of domestic refining capacity.

Need and use of the Information: FAS will collect information to: (1) Determine whether applicants for the program meet the Regulation's eligibility criteria; (2) monitor sugar imports, transfers, exports, and use in order to confirm that transactions are conducted and completed within the requirements of the Regulations; (3) audit participants' compliance with the Regulation; and (4) prevent entry of world-priced program sugar from entering the higher-priced domestic commercial sugar market. The information collected is needed by the Sugar Licensing Authority to manage, plan, evaluate, and account for program activities.

Description of Respondents: Business or other for-profit; Individuals or households.

Number of Respondents: 250.

Frequency of Responses: Reporting; Quarterly.

Total Burden Hours: 4,377.

Sondra A. Blakey,
Departmental Information Clearance Officer.

[FR Doc. 01-28890 Filed 11-19-01; 8:45 am]

BILLING CODE 3410-01-M